Memorandum of January 8, 2019

Decision on the United States Consulate General in Jerusalem

Memorandum for the Secretary of State

Pursuant to the authority vested in me by the Constitution and the laws of the United States of America, and after carefully considering the recommendation of the Secretary of State, I hereby authorize you to take the steps necessary to close the United States Consulate General in Jerusalem and to merge its functions into the United States Embassy to Israel.

THE WHITE HOUSE,

Washington, January 8, 2019

[FR Doc. 2019-02461

Filed 2-12-19; 11:15 am]

Billing code 3295-F9-P